U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on February 23, 2017 on “China's Advanced Weapons.”

DATES: The meeting is scheduled for Thursday, February 23, 2017, from 9:30 a.m. to 3:35 p.m.

ADDRESSES: Dirksen Senate Office Building, Room 419, Washington, DC. A detailed agenda for the hearing will be posted to the Commission's Web site at www.uscc.gov. Also, please check our Web site for possible changes to the hearing schedule. Reservations are not required to attend the hearing.

FOR FURTHER INFORMATION CONTACT: Any member of the public seeking further information concerning the hearing should contact Leslie Tisdale, 444 North Capitol Street NW., Suite 602, Washington DC 20001; phone: 202-624-1496, or via email at ltisdale@uscc.gov. Reservations are not required to attend the hearing.

SUPPLEMENTARY INFORMATION:

Background: This is the second public hearing the Commission will hold during its 2017 report cycle to collect input from academic, industry, and government experts on national security implications of the U.S. bilateral trade and economic relationship with China. The hearing on “China's Advanced Weapons” will examine the military technologies China is considering or pursuing at the global technological frontier, its ability to develop innovative technologies going forward, and the implications of these efforts for the United States. It will specifically examine China's programs for the development of hypersonic, maneuverable re-entry vehicle, directed energy, electromagnetic, other counterspace, unmanned, and artificial intelligence systems. The hearing will be co-chaired by Chairman Carolyn Bartholomew and Senator James Talent. Any interested party may file a written statement by February 23, 2017 mailing to the contact below. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: February 8, 2017.
Michael Danis,
Executive Director, U.S.-China Economic and Security Review Commission.

[FR Doc. 2017-02891 Filed 2-10-17; 8:45 am]

BILLING CODE 1137-00-P